DEPARTMENT OF HEALTH AND HUMAN SERVICES

Centers for Disease Control and Prevention

[60Day-23-0214; Docket No. CDC-2023-0070]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Health Interview Survey (NHIS). NHIS is a voluntary and confidential household-based survey that collects demographic and health-related information from a nationally representative sample of the U.S. population, and has been in the field continuously since 1957.

DATES: CDC must receive written comments on or before October 20, 2023.

ADDRESSES: You may submit comments, identified by Docket No. CDC-2023-0070 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Health Interview Survey (NHIS) (OMB Control No. 0920-0214, Exp. 12/31/2023)—Revision — National Center for Health Statistics (NCHS), Centers for Disease Control and Prevention (CDC).

Background and Brief Description

Section 306 of the Public Health Service (PHS) Act (42 U.S.C.), as amended, authorizes that the Secretary of Health and Human Services (HHS), acting through NCHS, shall collect statistics on the extent and nature of illness and disability of the population of the United States. The annual National Health Interview Survey (NHIS) is a major source of general statistics on the health of the U.S. population and has been in the field continuously since 1957. This voluntary and confidential household-based survey collects demographic and health-related information from a nationally representative sample of households and noninstitutionalized, civilian persons throughout the country. NHIS data have long been used by government, academic, and private researchers to evaluate both general health and specific issues, such as smoking, diabetes, health care coverage, and access to health care. The survey is also a leading source of data for the Congressionally-mandated “Health US” and related publications, as well as the single most important source of statistics to track progress toward HHS health objectives.

The NHIS sample adult and sample child questionnaires include annual core content that is scheduled to be fielded in the survey every year, rotating content that is fielded periodically, emerging content to address new topics of growing interest, and sponsored content that is fielded when external funding is available. Rotating sample adult and sample child core content on service utilization that was on the NHIS in 2023 will rotate off in 2024. Content on chronic pain and preventive services will also rotate off the sample adult core, and content on stressful life events will rotate off the sample child core. The 2024 sample adult rotating core will include items on health-related behaviors including smoking history and cessation, alcohol use, fatigue, physical activity, walking, doctor's advice to exercise, and sleep—content previously fielded on the 2022 NHIS. It will also include content on allergies and other health conditions and psychological distress, content that was previously fielded in 2021. The 2024 sample child rotating core will include questions on health-related behaviors including physical activity, neighborhood characteristics, sleep, screen time, and height and weight which were previously fielded in 2022. Sponsored content on vision and hearing will be removed from both the sample adult and sample child questionnaires. Sponsored content on arthritis will be removed from the sample adult questionnaire. Sponsored content on social support and stressful life events will be removed from the sample child questionnaire. Sponsored content on cancer control and immunizations will remain, but the specific questions will change. Sponsored cancer control content on breast, prostate, and colorectal cancer screening, family history of cancers, and genetic testing for cancer risk will be removed from the sample adult questionnaire. Sponsored cancer control content in the 2024 NHIS sample adult questionnaire will focus on cigarette smoking history, lung cancer screening, environment for walking, and sun safety, using similar questions that were used in the 2020 NHIS. Sponsored content for the 2024 NHIS sample adult and sample child questionnaire will also include questions about taste and smell that are similar to content included in the 2021 NHIS. Sponsored content on social support and loneliness will also be added to the 2024 NHIS sample adult questionnaire.

Like in past years, and in accordance with the 1995 initiative to increase the integration of surveys within the DHHS, respondents to the 2021 NHIS will serve as the sampling frame for the Medical Expenditure Panel Survey conducted by the Agency for Healthcare Research and Quality. A subsample of NHIS respondents and/or members of commercial survey panels may be identified to participate in short, web-based methodological and cognitive testing activities to evaluate the questionnaire and/or inform the development of new rotating and sponsored content using web and/or mail survey tools. In addition, subsamples of NHIS respondents may be recontacted by web, phone, or mail to ask follow-up questions on topics that are already included in the NHIS. The NHIS-Teen is a follow-back survey of adolescents that was fielded from 2021 to 2023 and may be fielded again between 2024 and 2026 if funding is available. The NHIS also includes content that is used to benchmark estimates and calibrate survey weights from probability-based online commercial survey panels as part of the NCHS Rapid Surveys System.

CDC requests OMB approval for an estimated 39,608 annual burden hours to collect from 2024-2026. There is no cost to the respondents other than their time to participate.

Estimated Annualized Burden Hours
Type of respondent | Form name | Number of respondents | Number of responses per respondent | Average burden per response (in hours) | Total burden hours
Adult Household Member | Household Roster | 36,000 | 1 | 4/60 | 2,400
Sample Adult | Adult Questionnaire | 33,000 | 1 | 50/60 | 27,500
Adult Family Member | Child Questionnaire | 10,000 | 1 | 22/60 | 4,000
Adult Family Member | Methodological Projects | 15,000 | 1 | 20/60 | 5,000
Sample Child | NHIS-Teen | 1,000 | 1 | 15/60 | 250
Adult Family Member | Reinterview Survey | 5,500 | 1 | 5/60 | 458
Total |  |  |  |  | 39,608

Jeffrey M. Zirger,
Lead, Information Collection Review Office, Office of Public Health Ethics and Regulations, Office of Science, Centers for Disease Control and Prevention.

[FR Doc. 2023-17923 Filed 8-18-23; 8:45 am]

BILLING CODE 4163-18-P